DEPARTMENT OF LABOR

Occupational Safety and Health Administration

[Docket No. OSHA-2009-0022]

Requirements for the OSHA Training Institute Education Centers Program and the OSHA Outreach Training Program; Requesting the Office of Management and Budget's (OMB) Approval of Information Collection (Paperwork) Requirements

AGENCY: Occupational Safety and Health Administration (OSHA), Labor.

ACTION: Request for public comments.

SUMMARY: OSHA solicits comments concerning the proposal to extend the OMB approval of the information collection requirements contained in the OSHA Training Institute Education Centers Program and the OSHA Outreach Training Program.

DATES: Comments must be submitted (postmarked, sent, or received) by July 27, 2020.

ADDRESSES:

Electronically: You may submit comments and attachments electronically at http://www.regulations.gov, which is the Federal eRulemaking Portal. Follow the instructions online for submitting comments.

Facsimile: If your comments, including attachments, are not longer than ten (10) pages, you may fax them to the OSHA Docket Office at (202) 693-1648.

Mail, hand delivery, express mail, messenger, or courier service: When using this method, you must submit your comments and attachments to the OSHA Docket Office, Docket No. OSHA-2009-0022, U.S. Department of Labor, Occupational Safety and Health Administration, Room N-3653, 200 Constitution Avenue NW, Washington, DC 20210. Deliveries (hand, express mail, messenger, and courier service) are accepted during Docket Office's normal business hours, 10:00 a.m. to 3:00 p.m., ET.

Instructions: All submissions must include the agency name and OSHA docket number (OSHA-2009-0022) for the Information Collection Request (ICR). All comments, including any personal information you provide, such as social security number and date of birth, are placed in the public docket without change, and may be made available online at http://www.regulations.gov. For further information on submitting comments, see the “Public Participation” heading in the section of this notice titled SUPPLEMENTARY INFORMATION.

Docket: To read or download comments or other material in the docket, go to http://www.regulations.gov or the OSHA Docket Office at the above address. All documents in the docket (including this Federal Register notice) are listed in the http://www.regulations.gov index; however, some information (e.g., copyrighted material) is not publicly available to read or download from the website. All submissions, including copyrighted material, are available for inspection and copying at the OSHA Docket Office. You may contact Annette Braam, Assistant Director, Office of Training and Educational Programs, or Jim Brock, OSHA Training Institute Education Centers Program, at the below address below to obtain a copy of the ICR.

FOR FURTHER INFORMATION CONTACT: Annette Braam, Assistant Director, Office of Training Programs and Administration, or Jim Brock, Program Coordinator, OSHA Training Institute Education Centers Program, Directorate of Training and Education, OSHA, U.S. Department of Labor, Phone: (847) 759-7781.

SUPPLEMENTARY INFORMATION:

I. Background

The Department of Labor, as part of the continuing effort to reduce paperwork and respondent (i.e., employer) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, collection instruments are clearly understood, and OSHA's estimate of the information collection burden is accurate. Consistent with the authority of Section 21 of the OSH Act, the agency created two educational programs, the OSHA Training Institute (OTI) Education Centers Program and the OSHA Outreach Training Program (Outreach).

To be a participant in the OTI Education Centers Programs or the Outreach Training Program, an individual/organization must provide the agency with certain information. The requested information is necessary to evaluate the applicant organization and to implement, oversee, and monitor the OTI Education Centers and Outreach Training Programs, courses and trainers. The 11 collection of information requirements are listed below.

A. Application to become an OSHA Training Institute Education Center (OTI Education Center);

B. OTI Education Centers Monthly Summary Report for the OTI Education Centers and the Outreach Training Program Monthly Summary Report;

C. Statement of Compliance with Outreach Training Program Requirements;

D. Outreach Training Program Report Forms (includes Construction, General Industry, Maritime, and Disaster Site);

E. Online Outreach Training Program Report;

F. Active Authorized Outreach Trainer List;

G. OSHA Training Institute Student Survey (OSHA Form 49 11-05 Edition) (OMB 1225-0059) (Attachment I, OSHA Form 49 11-05 Edition);

H. Attendance Documentation for OTI Education Centers;

I. Outreach Online Training Certification Statement;

J. Instructor and Staff Resumes (this includes anyone who may be assigned to conduct OSHA classes, contractor, subcontractor, employee, adjunct professor, etc.; and

K. Course Material upon Request by OSHA from OTI Education Centers.

II. Special Issues for Comment

OSHA has a particular interest in comments on the following issues:

• Whether the proposed information collection requirements are necessary for the proper performance of the agency's functions, including whether the information is useful;

• The accuracy of OSHA's estimate of the burden (time and costs) of the information collection requirements, including the validity of the methodology and assumptions used;

• The quality, utility, and clarity of the information collected; and

• Ways to minimize the burden on employers who must comply- for example, by using automated or other technological information collection and transmission techniques.

III. Proposed Actions

OSHA is requesting a 385 burden hour adjustment increase (from 15,913 to 16,298) as a result of increasing the number of courses offered and the number of students attending these courses. The agency will summarize comments submitted in response to this notice and will include this summary in the request to OMB.

Type of Review: Extension of a previously approved collection.

Title: OSHA Training Institute (OTI) Education Centers Program, and OSHA Outreach Training Program Data Collection.

OMB Control Number: 1218-0262.

Affected Public: Not-for-profit institutions; Federal government; State, local and tribal governments.

Number of Respondents: 312.

Frequency: On occasion.

Total Responses: 56,694.

Average Time per Response: Ranges from 3 minutes for OTI Education Centers to provide OSHA a list of outreach trainers to 60 hours for a not-for-profit institution to prepare and submit an application to become an OTI Education Center.

Estimated Total:

Burden hours: 16,298.

Estimated Cost (Operation and Maintenance): $0.

IV. Public Participation—Submission of Comments on This Notice and Internet Access to Comments and Submissions

You may submit comments in response to this document as follows: (1) Electronically at http://www.regulations.gov, which is the Federal eRulemaking Portal; (2) by facsimile; or (3) by hard copy. All comments, attachments, and other material must identify the agency name and the OSHA docket number for the ICR (Docket No. OSHA-2009-0022). You may supplement electronic submissions by uploading document files electronically. If you wish to mail additional materials in reference to an electronic or facsimile submission, you must submit them to the OSHA Docket Office (see the section of this notice titled ADDRESSES). The additional materials must clearly identify your electronic comments by your name, date, and the docket number so the agency can attach them to your comments.

Because of security procedures, the use of regular mail may cause a significant delay in the receipt of comments. For information about security procedures concerning the delivery of materials by hand, express delivery, messenger, or courier service, please contact the OSHA Docket Office at (202) 693-2350, TTY (877) 889-5627.

Comments and submissions are posted without change at http://www.regulations.gov. Therefore, OSHA cautions commenters about submitting personal information such as social security numbers and date of birth. Although all submissions are listed in the http://www.regulations.gov index, some information (e.g., copyrighted material) is not publicly available to read or download from this website. All submissions, including copyrighted material, are available for inspection and copying at the OSHA Docket Office. Information on using the http://www.regulations.gov website to submit comments and access the docket is available at the website's “User Tips” link. Contact the OSHA Docket Office for information about materials not available from the website, and for assistance in using the internet to locate docket submissions.

V. Authority and Signature

Loren Sweatt, Principal Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC.
Loren Sweatt,
Principal Deputy Assistant Secretary of Labor for Occupational Safety and Health.

[FR Doc. 2020-11413 Filed 5-27-20; 8:45 am]

BILLING CODE 4510-26-P